DEPARTMENT OF HOMELAND SECURITY

Bureau of Customs and Border Protection

[CBP Decision 03-36]

Customs Accreditation of SEA, Ltd. as a Commercial Laboratory

AGENCY: Customs and Border Protection, Department of Homeland Security.

ACTION: Notice of accreditation of SEA, Ltd., of Columbus, Ohio, as a commercial laboratory.

SUMMARY: SEA, Ltd. of Columbus, Ohio has applied to Customs and Border Protection under § 151.12 of the Customs Regulations for accreditation as a commercial laboratory to analyze paraffin wax in candles under chapter 34 of the Harmonized Tariff Schedule of the United States (HTSUS). Customs has determined that this company meets all of the requirements for accreditation as a commercial laboratory. Specifically, SEA, Ltd. has been granted accreditation to perform the following test methods at their Columbus, Ohio site: (1) Quantitation of Paraffin in Beeswax and Other Waxes by High Temperature Capillary Gas Chromatography, USCL (United States Customs Laboratory) test method 34-07; and (2) Quantitative Analysis of Paraffin in Beeswax by Column Chromatography, USCL (United States Customs Laboratory) test method 34-08. Therefore, in accordance with § 151.12 of the Customs Regulations, SEA, Ltd. of Columbus, Ohio is hereby accredited to analyze the products named above.

Location: SEA, Ltd.'s accredited site is located at: 7349 Worthington—Galena Rd., Columbus, Ohio 43085.

EFFECTIVE DATE: December 16, 2003.

FOR FURTHER INFORMATION CONTACT: Arlene Faustermann, Science Officer, Laboratories and Scientific Services, Customs and Border Protection, 1300 Pennsylvania Avenue, NW., Suite 1500 North, Washington, DC 20229, (202) 344-1060.

Dated: December 16, 2003.
Ira S. Reese,
Executive Director, Laboratories and Scientific Services.

[FR Doc. 03-31759 Filed 12-23-03; 8:45 am]

BILLING CODE 4820-02-P